DEPARTMENT OF ENERGY

Federal Energy Regulatory Commission

[Docket No. RP03-196-000]

Midwestern Gas Transmission Company; Notice of Proposed Changes in FERC Gas Tariff

December 13, 2002.

Take notice that on December 10, 2002, Midwestern Gas Transmission Company (Midwestern) tendered for filing as part of its FERC Gas Tariff, Third Revised Volume No. 1, the following tariff sheets, to become effective January 1, 2003.

Title Page

First Revised Sheet No. 251

First Revised Sheet No. 253

First Revised Sheet No. 401

First Revised Sheet No. 408

Second Revised Sheet No. 415

First Revised Sheet No. 423

First Revised Sheet No. 430

First Revised Sheet No. 436

First Revised Sheet No. 441

First Revised Sheet No. 446

First Revised Sheet No. 482

First Revised Sheet No. 483

First Revised Sheet No. 489

First Revised Sheet No. 492

First Revised Sheet No. 495

Midwestern states that it has moved to a new location. The purpose of this filing is to reflect in its tariff, Midwestern's new address and telephone numbers at the new location.

Midwestern states that it as served copies of the filing upon all of its contracted shippers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's web site under the “e-Filing” link.

Linwood A. Watson, Jr.,
Deputy Secretary.

[FR Doc. 02-32026 Filed 12-18-02; 8:45 am]

BILLING CODE 6717-01-P